OFFICE OF SCIENCE AND TECHNOLOGY POLICY

Request for Information on the Bioeconomy

AGENCY: Office of Science and Technology Policy (OSTP).

ACTION: Notice of request for information (RFI) for Bioeconomy.

SUMMARY: The Office of Science Technology and Policy (OSTP) requests input from all interested parties on the U.S. Bioeconomy. The Bioeconomy represents the infrastructure, innovation, products, technology, and data derived from biologically-related processes and science that drive economic growth, promote health, and increase public benefit. Through this Request for Information (RFI), OSTP seeks input from the public, including those with capital investments, performing innovative research, or developing enabling platforms and applications in the field of biological sciences, to include healthcare, medicine, pharmaceuticals, biotechnology, manufacturing, energy production, and agriculture. This RFI will inform notable gaps, vulnerabilities, and areas to promote and protect in the U.S. Bioeconomy that may benefit from Federal government attention. The information can include suggestions on those areas of greatest priority within the Bioeconomy, as well as past or future Federal government efforts to build, promote, and sustain the U.S. Bioeconomy. The public input provided in response to this RFI will inform the Executive Office of the President as well as private sector, academia, non-governmental entities, and other stakeholders with interest in and expertise relating to the promotion of a Bioeconomy ecosystem encompassing shared values and core American principles.

DATES: Interested persons are invited to submit comments on or before 11:59 p.m. (ET) on October 22, 2019.

ADDRESSES: Comments submitted in response to this notice may be submitted online to: MBX.OSTP.WHBioeconomy@ostp.eop.gov. Email submissions should be machine-readable [pdf, word] and not be copy-protected. Submissions should include “RFI Response: Bioeconomy” in the subject line of the message.

Instructions: Response to this RFI is voluntary. Each individual or institution is requested to submit only one response. Submission must not exceed 10 pages in 12 point or larger font, with a page number provided on each page. Responses should include the name of the person(s) or organization(s) filing the comment. Comments containing references, studies, research, and other empirical data that are not widely published should include copies or electronic links of the referenced materials. Comments containing profanity, vulgarity, threats, or other inappropriate language or content will not be considered.

Comments submitted in response to this notice are subject to FOIA. Responses to this RFI may also be posted, without change, on a Federal website. Therefore, we request that no business proprietary information, copyrighted information, or personally identifiable information be submitted in response to this RFI.

In accordance with FAR 15-202(3), responses to this notice are not offers and cannot be accepted by the Government to form a binding contract. Additionally, the U.S. Government will not pay for response preparation or for the use of any information contained in the response.

FOR FURTHER INFORMATION CONTACT: Paige Waterman at: MBX.OSTP.WHBioeconomy@ostp.eop.gov.

SUPPLEMENTARY INFORMATION: A prosperous bioeconomy provides a host of opportunities for the current and future growth of all sectors of the U.S. economy. Today, the Bioeconomy ecosystem in the United States is a rapidly changing technological and economic environment. Data rights, analysis, use, storage and security are all critical components of biotechnology, healthcare, medicine, public health, data science, energy, environment, and agriculture. Ongoing research and innovation in these areas provide the foundation for solving the problems of today and the potentially unforeseen issues of tomorrow. To that end, stimulating the research enterprise, developing and sustaining workforce talent, and supporting the infrastructure for the manufacturing of products remain critical components to any Bioeconomy objective.

To inform the Federal government's decision-making and establish the Nation's guiding values and principles in the promotion and protection of the U.S. Bioeconomy, OSTP seeks public input on how U.S. Government action regarding the Bioeconomy can support scientific discovery, the development of technological advances, and increase the impact of a vibrant bioeconomy on the Nation's vitality and our citizens' lives. To that end, responders are specifically requested to answer one or more of the following questions in their submissions. Consortia responses are also encouraged.

1. What specific actions could the U.S. Government take to reinforce a values-based ecosystem that will guide the transformation and expansion of the U.S. Bioeconomy, in both the short- and long-term? Please consider:

a. Policy or regulatory opportunities and gaps throughout the continuum of basic science translation, product development and commercialization;

b. Scientific areas where research funding could be strategically targeted to stimulate discovery;

c. Novel public-private partnership mechanisms;

d. International opportunities;

e. Challenges to taking identified actions or implementing change.

2. In what ways can the U.S. Government partner with the private sector, industry, professional organizations, and academia to ensure the training and continued development of a skilled workforce to support the growth of the Bioeconomy? Please consider:

a. Potential needs and solutions at the skilled technical, undergraduate, professional master's program or graduate level;

b. Specific needs within basic science, translational research, product development, and commercialization;

c. Approaches for the development of non-traditional, multi-disciplinary educational backgrounds that address the convergent nature of emerging technologies and integrate core values including safety and security;

d. Effective geographic distribution of workforce and talent development across the United States;

e. The development of a public and private ecosystem that will attract and retain domestic and foreign talent within the United States at all skill levels.

3. In what ways can the U.S. Government partner with the private sector, industry, professional organizations, and academia to establish a more robust and efficient Bioeconomy infrastructure? Please consider:

a. Current infrastructure—from databases to world-class technology and manufacturing capabilities;

b. Geographic distribution of manufacturing capabilities compared to future manufacturing needs;

c. Leveraging existing public-private partnerships and identifying trusted information sharing mechanisms to accelerate innovation and facilitate fruitful, equitable domestic and international collaborations;

d. Institutional models for achieving translation of basic science discoveries to application and/or entry into the marketplace.

4. Across the spectrum, from basic discovery to practical application, what data policies, information-sharing mechanisms, and safeguards will be necessary for a prosperous U.S. Bioeconomy? Please consider:

a. Scientific, regulatory, manufacturing standards and/or benchmarks and/or best practices around data that should be developed to best accelerate Bioeconomy growth;

b. Possible safeguards for technology, data, and emergent products, such as patent/intellectual property protection, data quality and provenance validation, and privacy and security assurances.

Sean Bonyun,
Chief of Staff, Office of Science and Technology Policy.

[FR Doc. 2019-19470 Filed 9-9-19; 8:45 am]

BILLING CODE 3270-F9-P